ENVIRONMENTAL PROTECTION AGENCY

[EPA-HQ-OPP-2009-0045; FRL-8814-7]

Notice of Receipt of Several Pesticide Petitions Filed for Residues of Pesticide Chemicals in or on Various Commodities; Correction

AGENCY: Environmental Protection Agency (EPA).

ACTION: Notice; correction.

SUMMARY: EPA issued a notice in the Federal Register of Thursday, February 4, 2010, Vol. 75, No. 23, page 5790, FRL-8807-5, concerning the receipt of the initial notice of filing of pesticide petition (PP) 9E7651 in Docket identification No. EPA-HQ-OPP-2009-0980 proposing to establish import tolerances in 40 CFR part 180 for residues of the “insecticide” fluazifop-p-butyl in various potato commodities. This document is being issued to correct typographical error from “insecticide” to “herbicide,” and to extend the comment period for an additional 30 days.

DATES: Comments must be received on or before April 9, 2010.

FOR FURTHER INFORMATION CONTACT: Michael Walsh, Registration Division (7505P), Office of Pesticide Programs, Environmental Protection Agency, 1200 Pennsylvania Ave., NW., Washington, DC 20460-0001; telephone number: (703) 308-2972; e-mail address: walsh.michael@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

EPA has established a docket for this action under docket identification (ID) number EPA-HQ-OPP-2009-0980. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Does this Correction Do?

The preamble for FR Doc. 2010-2382 published in the Federal Register of Thursday, February 4, 2010 (75 FR 5790) (FRL-8807-5) is corrected as follows:

On page 5792, third column, under the heading New Tolerances, paragraph 4. PP 9E7651 (EPA-HQ-OPP-2009-0980), line 6, remove the word “insecticide” and add the word “herbicide” in place thereof.

List of Subjects

Environmental protection, Agricultural commodities, Feed additives, Food Additives, Pesticides and pests, Reporting and recordkeeping requirements.

Dated: March 1, 2010.
Lois Rossi,
Director, Registration Division, Office of Pesticide Programs.

[FR Doc. 2010-5134 Filed 3-9-10; 8:45 am]

BILLING CODE 6560-50-S